COMMISSION ON CIVIL RIGHTS

Agenda and Notice of Public Meeting of the Hawaii State Advisory Committee; Correction

A correction is hereby made to the meeting notice of the Hawaii Advisory Committee that appeared in the second column, first paragraph, at line 8, on August 22, 2007, in Vol. 72 of the Federal Register at page 46953. The time for convening the meeting should be 10 a.m. No other corrections are made to that notice.

Dated at Washington, DC, August 27, 2007.
Ivy L. Davis,
Acting Chief, Regional Programs Coordination Unit.

[FR Doc. E7-17224 Filed 8-29-07; 8:45 am]

BILLING CODE 6335-01-P